DEPARTMENT OF COMMERCE

Foreign-Trade Zones Board

[Order No. 1649]

Expansion of Foreign-Trade Zone 123, Denver, CO

Pursuant to its authority under the Foreign-Trade Zones (FTZ) Act of June 18, 1934, as amended (19 U.S.C. 81a-81u), the Foreign-Trade Zones Board (the Board) adopts the following Order:

Whereas, the City and County of Denver, grantee of Foreign-Trade Zone No. 123, submitted an application to the Board for authority to expand FTZ 123 to include the jet fuel storage and distribution facilities at the Denver International Airport, within the Denver Customs and Border Protection port of entry (FTZ Docket 73-2008, filed 12/24/2008);

Whereas, notice inviting public comment was given in the Federal Register (74 FR 2046, 1/14/2009) and the application has been processed pursuant to the FTZ Act and the Board's regulations; and,

Whereas, the Board adopts the findings and recommendations of the examiner's report, and finds that the requirements of the FTZ Act and the Board's regulations are satisfied, and that the proposal is in the public interest;

Now, Therefore, the Board hereby orders:

The application to expand FTZ 123 is approved, subject to the Act and the Board's regulations, including Section 400.28.

Signed at Washington, DC, this 23rd day of October 2009.
Ronald K. Lorentzen,
Acting Assistant Secretary of Commerce for Import Administration, Alternate Chairman, Foreign-Trade Zones Board.
Attest:
Andrew McGilvray,
Executive Secretary.

[FR Doc. E9-26937 Filed 11-6-09; 8:45 am]

BILLING CODE P